DEPARTMENT OF COMMERCE

International Trade Administration

[A-570-910, C-570-911]

Circular Welded Carbon Quality Steel Pipe From the People's Republic of China: Final Affirmative Determination of Circumvention of the Antidumping Duty and Countervailing Duty Orders

AGENCY: Enforcement and Compliance, International Trade Administration, Department of Commerce.

SUMMARY: The U.S. Department of Commerce (Commerce) determines that imports of circular welded carbon quality steel pipe (CWP) completed in the Sultanate of Oman (Oman) using hot-rolled steel (HRS) produced in the People's Republic of China (China) are circumventing the antidumping duty (AD) and countervailing duty (CVD) orders on CWP from China.

DATES: Applicable February 3, 2026.

FOR FURTHER INFORMATION CONTACT: Shawn Gregor, Office of Policy, Enforcement and Compliance, International Trade Administration, U.S. Department of Commerce, 1401 Constitution Avenue NW, Washington, DC 20230; telephone: (202) 482-3226.

SUPPLEMENTARY INFORMATION:

Background

On July 22, 2025, Commerce published in the Federal Register its Preliminary Determination that imports of CWP completed in Oman using HRS produced in China are circumventing the Orders.¹ Pursuant to section 781(e) of the Tariff Act of 1930, as amended (the Act), on August 6, 2025, Commerce notified the U.S. International Trade Commission (ITC) of its preliminary affirmative determination of circumvention.² The ITC did not request consultations with Commerce.

¹ See Notice of Antidumping Duty Order: Circular Welded Carbon Quality Steel Pipe from the People's Republic of China, 73 FR 42547 (July 22, 2008) (AD Order); see also Circular Welded Carbon Quality Steel Pipe from the People's Republic of China: Notice of Amended Final Affirmative Countervailing Duty Determination and Notice of Countervailing Duty Order, 73 FR 42545 (July 22, 2008) (CVD Order) (collectively, the Orders); see also Circular Welded Carbon Quality Steel Pipe from the People's Republic of China: Preliminary Affirmative Determination of Circumvention of the Antidumping Duty and Countervailing Duty Orders, 90 FR 34427 (July 22, 2025) (Preliminary Determination), and accompanying Preliminary Decision Memorandum (PDM).

² See Commerce's Letter, “Preliminary Affirmative Determinations of Circumvention; Antidumping and Countervailing Duty Orders on Circular Welded Carbon Quality Steel Pipe from the People's Republic of China,” dated August 6, 2025.

On August 7, 2025, Al Jazeera Steel Products Co. SAOG (Al Jazeera) submitted a case brief.³ On August 15, 2025, the Bull Moose Tube Company, Maruichi American Corporation, Wheatland Tube Company, and the United Steel, Paper and Forestry, Rubber, Manufacturing, Energy, Allied Industrial and Service Workers International Union, AFL-CIO, CLC (collectively, the domestic interested parties) submitted a rebuttal brief.⁴ On August 21, 2025, Commerce extended the deadline for issuing the final determination in this circumvention inquiry until November 19, 2025.⁵ Due to the lapse in appropriations and Federal Government shutdown, on November 14, 2025, Commerce tolled all deadlines in administrative proceedings by 47 days.⁶ Additionally, due to a backlog of documents that were electronically filed via Enforcement and Compliance's Antidumping and Countervailing Duty Centralized Electronic Service System (ACCESS) during the Federal Government shutdown, on November 24, 2025, Commerce tolled all deadlines in administrative proceedings by an additional 21 days, to January 26, 2026.⁷ Finally, due to the closure of Commerce offices due to inclement weather, the deadline for this final determination, is postponed until the next business day,⁸ i.e., January 28, 2026. For a summary of events that occurred since the Preliminary Determination, as well as a full discussion of the issues raised by parties for consideration in the final determination, see the Issues and Decision Memorandum.⁹

³ See Al Jazeera's Letter, “Al Jazeera Case Brief,” dated August 7, 2025.

⁴ See Domestic Interested Parties' Letter, “Rebuttal Brief,” dated August 15, 2025.

⁵ See Memorandum, “Extension of Deadline for the Final Determination in the Circumvention Inquiry Pertaining to the Sultanate of Oman,” dated August 21, 2025.

⁶ See Memorandum, “Deadlines Affected by the Shutdown of the Federal Government,” dated November 14, 2025.

⁷ See Memorandum, “Tolling of All Case Deadlines,” dated November 24, 2025.

⁸ See Notice of Clarification: Application of “Next Business Day” Rule for Administrative Determination Deadlines Pursuant to the Tariff Act of 1930, As Amended, 70 FR 24533 (May 10, 2005).

⁹ See Memorandum, “Circular Welded Carbon Quality Steel Pipe from the People's Republic of China: Final Decision Memorandum for the Circumvention Inquiry on the Antidumping Duty and Countervailing Duty Orders,” dated concurrently with, and hereby adopted by, this notice (Issues and Decision Memorandum).

The Issues and Decision Memorandum is a public document and is on file electronically via ACCESS. ACCESS is available to registered users at https://access.trade.gov. In addition, a complete version of the Issues and Decision Memorandum can be accessed at https://access.trade.gov/public/FRNoticesListLayout.aspx.

Scope of the Orders

The products covered by the Orders include certain welded carbon quality steel pipes and tubes from China. For a full description of the scope of the Order, see Appendix I of this notice.

Merchandise Subject to the Circumvention Inquiry

This circumvention inquiry covers CWP completed in Oman using Chinese-origin HRS that is subsequently exported from Oman to the United States (inquiry merchandise).

Analysis of Comments Received

All issues raised in this inquiry are addressed in the Issues and Decision Memorandum. A list of the issues raised is attached to this notice as Appendix II.

Methodology and Final Circumvention Determination

Commerce conducted this circumvention inquiry in accordance with section 781(b) of the Act and 19 CFR 351.226. As detailed in the Issues and Decision Memorandum, Commerce determines, pursuant to section 781(b) of the Act, that imports of HRS from China that are further processed in Oman into inquiry merchandise are circumventing the Orders. We are applying our decision on a country-wide basis. See the “Suspension of Liquidation and Cash Deposit Requirements” section, below, for details regarding suspension of liquidation and cash deposit requirements.

Certifications

To administer the final affirmative country-wide determination of circumvention for Oman, Commerce established importer and exporter certifications, which allow companies to certify that specific entries of CWP from Oman are not subject to suspension of liquidation or the collection of cash deposits pursuant to this affirmative country-wide determination of circumvention if the merchandise is not made with Chinese-origin HRS or is made with an input other than HRS (see Appendix III to this notice).

Importers and exporters that claim that the entry of CWP is not subject to suspension of liquidation or the collection of cash deposits because the merchandise is not made with Chinese-origin HRS or is made with an input other than HRS must complete the applicable certification and meet the certification and documentation requirements described below, as well as the requirements identified in the applicable certification.

Certification Requirements

Exporters are required to complete and maintain the applicable exporter certification and provide the importer with a copy of that certification and all supporting documentation (e.g., invoice, purchase order, production records, etc.). With the exception of the entries described below, the exporter certification must be completed, signed, and dated by the time of shipment of the relevant entries. The exporter certification should be completed by the party selling the CWP that was manufactured in Oman to the United States.

Importers are required to complete and maintain the applicable importer certification, and maintain a copy of the applicable exporter certification, and retain all supporting documentation for both certifications. With the exception of the entries described below, the importer certification must be completed, signed, and dated by the time the entry summary is filed for the relevant entry.

The importer, or the importer's agent, must submit the importer's certification, the exporter's certification, the commercial invoice, and the bill of lading to U.S. Customs and Border Protection (CBP) at the time of entry summary by uploading these documents into the document imaging system (DIS) in the Automated Commercial Environment (ACE). Where the importer uses a broker to facilitate the entry process, the importer should obtain the entry summary number from the broker. Agents of the importer, such as brokers, however, are not permitted to certify on behalf of the importer. Consistent with CBP's procedures, importers shall identify certified entries by using importers' additional declaration (record 54) AD/CVD Certification Designation (type code 06) when filing an entry summary.¹⁰

¹⁰ See Cargo System Messaging Service #59384253, dated February 12, 2024; see also Announcing an Importer's Additional Declaration in the Automated Commercial Environment Specific to Antidumping/Countervailing Duty Certifications, 89 FR 7372 (February 2, 2024).

If it is determined that an importer has not met the certification and/or related documentation requirements for certain entries, Commerce intends to instruct CBP to suspend, pursuant to this country-wide affirmative determination of circumvention and the Order, all unliquidated entries for which these requirements were not met and require the importer to post applicable cash deposits. Commerce may instruct CBP to assess antidumping or countervailing duties at the applicable rate.

The claims made in the certifications and any supporting documentation are subject to verification by Commerce or CBP. Importers and exporters are required to maintain the certifications and supporting documentation until the later of: (1) the date that is five years after the latest entry date of the entries covered by the certification; or (2) the date that is three years after the conclusion of any litigation in United States courts regarding such entries.

For all CWP from Oman that was entered, or withdrawn from warehouse, for consumption during the period November 19, 2024 (the date of initiation of this circumvention inquiry), through August 13, 2025, where the entry has not been liquidated (and entries for which liquidation has not become final), the importer and exporter certifications should have been completed, signed, and uploaded to the DIS in ACE by September 8, 2025.

For unliquidated entries (and entries for which liquidation has not become final) of CWP that were declared as non-AD or non-CVD type entries (e.g., type 01) and entered, or withdrawn from warehouse, for consumption in the United States during the period November 19, 2024 (the date of initiation of these circumvention inquiries), through August 13, 2025, for which the above certification and document requirements were not met, importers must have filed a post-summary correction with CBP, in accordance with CBP's regulations, regarding conversion of such entries from non-AD or non-CVD type entries to AD or CVD type entries (e.g., type 01 to type 03). The importer must pay cash deposits on those entries consistent with the regulations governing post summary corrections that require payment of additional duties.

Suspension of Liquidation and Cash Deposit Requirements

Based on the affirmative country-wide determination of circumvention with respect to Oman, in accordance with 19 CFR 351.226(l)(3) and (m)(1)(ii), Commerce will direct CBP to suspend liquidation and to require a cash deposit of estimated duties on unliquidated entries of inquiry merchandise that were entered, or withdrawn from warehouse, for consumption, on or after November 19, 2024, the date of publication of the initiation of this circumvention inquiry in the Federal Register.

CWP completed in Oman from HRS that is not of Chinese origin is not subject to this inquiry. However, Commerce finds that CWP completed in Oman using China-origin HRS is circumventing the AD and CVD Orders on CWP from China. Imports of such merchandise are subject to certification requirements, and cash deposits may be required.

Entries for which the importer and exporter have met the certification and documentation requirements described above and in Appendix III to this notice will not be subject to suspension of liquidation or the cash deposit requirements.

Where the certification and documentation requirements are not met for an entry, Commerce intends to instruct CBP to suspend the entry and collect cash deposits at the rates applicable to the AD and CVD Orders on CWP from China. For companies with their own company-specific rates under the AD and CVD Orders, the cash deposit rates will be the company-specific rates. Otherwise, Commerce will instruct CBP to require AD cash deposits equal to the China-wide rate of 85.55 percent and CVD cash deposits equal to the all-others rate of 39.01 percent.¹¹

¹¹ See AD Order, 73 FR at 42549; see also Circular Welded Carbon Quality Steel Pipe from the People's Republic of China: Final Results of the Expedited Third Sunset Review of the Countervailing Duty Order, 89 FR 73064 (September 9, 2024), and accompanying Issues and Decision Memorandum at 5.

Commerce established the following third-country case numbers in ACE for entries of CWP completed in Oman using China-origin HRS: A-523-910 and C-523-911.

These suspension of liquidation requirements will remain in effect until further notice.

Administrative Protective Order (APO)

This notice will serve as the only reminder to all parties subject to an APO of their responsibility concerning the destruction of proprietary information disclosed under APO in accordance with 19 CFR 351.305(a)(3). Timely written notification of the return or destruction of APO materials or conversion to judicial protective order is hereby requested. Failure to comply with the regulations and the terms of an APO is a sanctionable violation.

Notification to Interested Parties

Commerce is issuing and publishing this notice in accordance with sections 781(b) and 777(i) of the Act, and 19 CFR 351.226(g)(2).

Dated: January 28, 2026.
Christopher Abbott,
Deputy Assistant Secretary for Policy and Negotiations, performing the non-exclusive functions and duties of the Assistant Secretary for Enforcement and Compliance.

Appendix I

Scope of the Orders

The merchandise subject to the Orders is certain welded carbon quality steel pipes and tubes, of circular cross-section, and with an outside diameter of 0.372 inches (9.45 mm) or more, but not more than 16 inches (406.4 mm), whether or not stenciled, regardless of wall thickness, surface finish (e.g., black, galvanized, or painted), end finish (e.g., plain end, beveled end, grooved, threaded, or threaded and coupled), or industry specification (e.g., ASTM, proprietary, or other), generally known as standard pipe and structural pipe (they may also be referred to as circular, structural, or mechanical tubing).

Specifically, the term “carbon quality” includes products in which (a) iron predominates, by weight, over each of the other contained elements; (b) the carbon content is 2 percent or less, by weight; and (c) none of the elements listed below exceeds the quantity, by weight, as indicated:

(i) 1.80 percent of manganese;

(ii) 2.25 percent of silicon;

(iii) 1.00 percent of copper;

(iv) 0.50 percent of aluminum;

(v) 1.25 percent of chromium;

(vi) 0.30 percent of cobalt;

(vii) 0.40 percent of lead;

(viii) 1.25 percent of nickel;

(ix) 0.30 percent of tungsten;

(x) 0.15 percent of molybdenum;

(xi) 0.10 percent of niobium;

(xii) 0.41 percent of titanium;

(xiii) 0.15 percent of vanadium; or

(xiv) 0.15 percent of zirconium.

Standard pipe is made primarily to American Society for Testing and Materials (ASTM) specifications, but can be made to other specifications. Standard pipe is made primarily to ASTM specifications A-53, A-135, and A-795. Structural pipe is made primarily to ASTM specifications A-252 and A-500. Standard and structural pipe may also be produced to proprietary specifications rather than to industry specifications. This is often the case, for example, with fence tubing. Pipe multiple-stenciled to a standard and/or structural specification and to any other specification, such as the American Petroleum Institute (API) API-5L specification, is also covered by the scope of the Orders when it meets the physical description set forth above and also has one or more of the following characteristics: is 32 feet in length or less; is less than 2.0 inches (50 mm) in outside diameter; has a galvanized and/or painted surface finish; or has a threaded and/or coupled end finish. (The term “painted” does not include coatings to inhibit rust in transit, such as varnish, but includes coatings such as polyester.)

The scope of the Orders does not include: (a) pipe suitable for use in boilers, superheaters, heat exchangers, condensers, refining furnaces and feedwater heaters, whether or not cold drawn; (b) mechanical tubing, whether or not cold-drawn; (c) finished electrical conduit; (d) finished scaffolding; (e) tube and pipe hollows for redrawing; (f) oil country tubular goods produced to API specifications; and (g) line pipe produced to only API specifications.

The pipe products that are the subject of the Orders are currently classifiable in HTSUS statistical reporting numbers 7306.30.10.00, 7306.30.50.25, 7306.30.50.32, 7306.30.50.40, 7306.30.50.55, 7306.30.50.85, 7306.30.50.90, 7306.50.10.00, 7306.50.50.50, 7306.50.50.70, 7306.19.10.10, 7306.19.10.50, 7306.19.51.10, and 7306.19.51.50. However, the product description, and not the Harmonized Tariff Schedule of the United States (HTSUS) classification, is dispositive of whether merchandise imported into the United States falls within the scope of the Orders.

Appendix II

List of Topics Discussed in the Issues and Decision Memorandum

I. Summary

II. Background

III. Scope of the Orders

IV. Merchandise Subject to the Circumvention Inquiry

V. Period of the Circumvention Inquiry

VI. Discussion of the Issues

Comment 1: Multiple Antidumping Duty (AD) Orders

Comment 2: Period of Inquiry

Comment 3: Patterns of Trade

Comment 4: Al Jazeera Affiliations

Comment 5: Whether Omani Imports of Chinese HRS Increased

VII. Recommendation

Appendix III

Importer Certification

I hereby certify that:

A. My name is {IMPORTING COMPANY OFFICIAL'S NAME} and I am an official of {IMPORTING COMPANY}, located at {ADDRESS OF IMPORTING COMPANY};

B. I have direct personal knowledge of the facts regarding the importation into the Customs territory of the United States of circular welded carbon quality steel pipe (CWP) produced in the Sultanate of Oman (Oman) that entered under entry summary number(s), identified below, and are covered by this certification. “Direct personal knowledge” refers to facts the certifying party is expected to have in its own records. For example, the importer should have direct personal knowledge of the importation of CWP, including the exporter's and/or foreign seller's identity and location;

C. If the importer is acting on behalf of the first U.S. customer, include the following sentence as paragraph C of this certification:

The CWP covered by this certification was imported by {IMPORTING COMPANY} on behalf of {U.S. CUSTOMER}, located at {ADDRESS OF U.S. CUSTOMER};

If the importer is not acting on behalf of the first U.S. customer, include the following sentence as paragraph C of this certification:

{NAME OF IMPORTING COMPANY} is not acting on behalf of the first U.S. customer.

D. The CWP covered by this certification was shipped to {NAME OF PARTY IN THE UNITED STATES TO WHOM THE MERCHANDISE WAS FIRST SHIPPED}, located at {U.S. ADDRESS TO WHICH MERCHANDISE WAS SHIPPED}.

E. I have personal knowledge of the facts regarding the production of the imported products covered by this certification. “Personal knowledge” includes facts obtained from another party, (e.g., correspondence received by the importer (or exporter) from the producer regarding the source of hot-rolled steel (HRS) or other inputs used to produce the imported CWP);

F. This certification applies to the following entries (repeat this block as many times as necessary):

Entry Summary #:

Entry Summary Line Item #:

Foreign Seller:

Foreign Seller's Address:

Foreign Seller's Invoice #:

Foreign Seller's Invoice Line Item #:

Country of Origin of HRS: ¹²

¹² Put “N/A” if the Country of Origin involves an input other than HRS.

Producer:

Producer's Address:

G. The CWP covered by this certification does not contain HRS produced in the People's Republic of China (China);

H. I understand that {IMPORTING COMPANY} is required to maintain a copy of this certification and sufficient documentation supporting this certification (i.e., documents maintained in the normal course of business, or documents obtained by the certifying party, for example, certificates of origin, product data sheets, mill test reports, productions records, invoices, etc.) until the later of: (1) the date that is five years after the date of the latest entry covered by the certification or; (2) the date that is three years after the conclusion of any litigation in the United States courts regarding such entries;

I. I understand that {IMPORTING COMPANY} is required to maintain a copy of the exporter's certification (attesting to the production and/or exportation of the imported merchandise identified above), and any supporting documentation provided to the importer by the exporter, until the later of: (1) the date that is five years after the date of the latest entry covered by the certification; or (2) the date that is three years after the conclusion of any litigation in United States courts regarding such entries;

J. I understand that {IMPORTING COMPANY}is required to submit a copy of the importer and exporter certifications, the commercial invoice, and the bill of lading at the time of entry summary by uploading these documents into the Document Imaging System in the Automated Commercial Environment, and to provide U.S. Customs and Border Protection (CBP) and/or the U.S. Department of Commerce (Commerce) with the importer certification, a copy of the exporter's certification, the commercial invoice, the bill of lading, and any supporting documentation provided to the importer by the exporter, upon request of either agency. Consistent with CBP's procedures, importers shall identify certified entries by using importers' additional declaration (record 54) AD/CVD Certification Designation (type code 06) when filing entry summary.

K. I understand that the claims made herein, and the substantiating documentation, are subject to verification by CBP and/or Commerce;

L. I understand that failure to maintain the required certification and supporting documentation, or failure to substantiate the claims made herein, or not allowing CBP and/or Commerce to verify the claims made herein, may result in a de facto determination that all entries to which this certification applies are within the scope of the antidumping duty (AD) and countervailing duty (CVD) orders on CWP from China. I understand that such finding will result in:

(i) suspension of liquidation of all unliquidated entries (and entries for which liquidation has not become final) for which these requirements were not met;

(ii) the importer being required to post the antidumping duty and countervailing duty cash deposits determined by Commerce; and

(iii) the importer no longer being allowed to participate in the certification process.

M. I understand that agents of the importer, such as brokers, are not permitted to make this certification;

N. This certification was completed and signed on, or prior to, the date of the entry summary if the entry date is after August 13, 2025. If the entry date is on or before August 13, 2025, this certification was completed and signed by no later than September 8, 2025, and the importer and exporter certifications, the commercial invoice, and the bill of lading were uploaded to DIS in ACE by no later than September 8, 2025.

O. I am aware that U.S. law (including, but not limited to, 18 U.S.C. 1001) imposes criminal sanctions on individuals who knowingly and willfully make material false statements to the U.S. government.

Signature

{NAME OF COMPANY OFFICIAL}

{TITLE OF COMPANY OFFICIAL}

{DATE}

Exporter Certification

The party that made the sale to the United States should fill out the exporter certification.

I hereby certify that:

A. My name is {COMPANY OFFICIAL'S NAME} and I am an official of {NAME OF FOREIGN COMPANY THAT MADE THE SALE TO THE UNITED STATES); located at {ADDRESS OF FOREIGN COMPANY THAT MADE THE SALE TO THE UNITED STATES);

B. I have direct personal knowledge of the facts regarding the production and exportation of the circular welded carbon quality steel pipe (CWP) from the Sultanate of Oman (Oman) for which sales are identified below. “Direct personal knowledge” refers to facts the certifying party is expected to have in its own records. For example, an exporter should have direct personal knowledge of the producer's identity and location;

C. The CWP covered by this certification was shipped to {NAME OF PARTY IN THE UNITED STATES TO WHOM MERCHANDISE WAS FIRST SHIPPED}, located at {U.S. ADDRESS TO WHICH MERCHANDISE WAS SHIPPED};

D. The CWP covered by this certification does not contain hot-rolled steel (HRS) produced in the People's Republic of China (China);

E. This certification applies to the following sales to {NAME OF U.S. CUSTOMER}, located at {ADDRESS OF U.S. CUSTOMER} (repeat this block as many times as necessary):

Foreign Seller's Invoice # to U.S. Customer:

Foreign Seller's Invoice to U.S. Customer Line item #:

Producer Name:

Producer's Address:

Producer's Invoice # to Foreign Seller: (If the foreign seller and the producer are the same party, put NA here.)

Name of Producer of HRS: ¹³

¹³ Put “N/A” if the producer did not use HRS in the production of CWP.

Location (Country) of Producer of HRS: ¹⁴

¹⁴ Put “N/A” if the producer did not use HRS in the production of CWP.

F. The CWP covered by this certification was shipped to {NAME OF U.S. PARTY TO WHOM MERCHANDISE WAS SHIPPED}, located at {U.S. ADDRESS TO WHICH MERCHANDISE WAS SHIPPED};

G. I understand that {NAME OF FOREIGN COMPANY THAT MADE THE SALE TO THE UNITED STATES} is required to maintain a copy of this certification and sufficient documentation supporting this certification (i.e., documents maintained in the normal course of business, or documents obtained by the certifying party, for example, product data sheets, mill test reports, productions records, invoices, etc.) until the later of: (1) the date that is five years after the latest date of the entries covered by the certification; or (2) the date that is three years after the conclusion of any litigation in the United States courts regarding such entries;

H. I understand that {NAME OF FOREIGN COMPANY THAT MADE THE SALE TO THE UNITED STATES} is required to provide the U.S. importer with a copy of this certification and is required to provide U.S. Customs and Border Protection (CBP) and/or the U.S. Department of Commerce (Commerce) with this certification, and any supporting documents, upon request of either agency;

I. I understand that the claims made herein, and the substantiating documentation, are subject to verification by CBP and/or Commerce;

J. I understand that failure to maintain the required certification and supporting documentation, or failure to substantiate the claims made herein, or not allowing CBP and/or Commerce to verify the claims made herein, may result in a de facto determination that all sales to which this certification applies are within the scope of the antidumping duty and countervailing duty orders on CWP from China. I understand that such a finding will result in:

(i) suspension of all unliquidated entries (and entries for which liquidation has not become final) for which these requirements were not met;

(ii) the importer being required to post the antidumping duty and countervailing duty cash deposits determined by Commerce; and

(iii) the seller/exporter no longer being allowed to participate in the certification process.

K. I understand that agents of the seller/exporter, such as freight forwarding companies or brokers, are not permitted to make this certification.

L. This certification was completed and signed, and a copy of the certification was provided to the importer, on, or prior to, the date of shipment if the shipment date is after August 13, 2025. If the shipment date is on or before August 13, 2025, this certification was completed and signed, and a copy of the certification was provided to the importer, by no later than September 8, 2025; and

M. I am aware that U.S. law (including, but not limited to, 18 U.S.C. 1001) imposes criminal sanctions on individuals who knowingly and willfully make material false statements to the U.S. government.

Signature

{NAME OF COMPANY OFFICIAL}

{TITLE OF COMPANY OFFICIAL}

{DATE}

[FR Doc. 2026-02104 Filed 2-2-26; 8:45 am]

BILLING CODE 3510-DS-P